DEPARTMENT OF HEALTH AND HUMAN SERVICES

Administration for Children and Families

Submission for OMB Review; Comment Request

Title: Multi-site Evaluation of Foster Youth Programs.

OMB No.: New Collection.

Description: The Foster Care Independence Act of 1999 (Public Law 106-169) mandates evaluations of promising Independent Living Programs administered by state and local child welfare agencies. The Administration for Children and Families proposes an evaluation of four Independent Living Programs (ILP) over a five year period using a randomized experimental design. Youth ages 14-21 years receiving ILP services and their caseworkers will be interviewed at three points during the evaluation period. Program administrators, staff, and supplementary youth will also participate in interviews and focus groups will be conducted at each program site.

Respondents: Youth, caseworkers, and program administrators, and staff.

Annual Burden Estimates

Instrument | Number of respondents | Number of responses per respondent | Average burden hours per response | Total burden hours
Youth survey | 1,400 | 1 | 1.5 | 2,100
Caseworker survey | 2,800 | 1 | .5 | 1,400
Program site visits, administrators, staff, youth | 300 | 1 | 1.0 | 300
Estimated Total Annual Burden Hours |  |  |  | 3,800

Additional Information: Copies of the proposed collection may be obtained by writing to the Administration for Children and Families, Office of Administration, Office of Information Services, 370 L'Enfant Promenade, SW., Washington, DC 20447, Attn: ACF Reports Clearance Officer. E-mail address: rsargis@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF, E-mail address: lauren_wittenberg@omb.eop.gov.

Dated: June 2, 2003.
Robert Sargis,
Reports Clearance Officer.

[FR Doc. 03-14152 Filed 6-4-03; 8:45 am]

BILLING CODE 4184-01-M